DEPARTMENT OF JUSTICE

Notice of Lodging of Proposed Consent Decree Under the Comprehensive Environmental Response, Compensation, and Liability Act

On September 28, 2015, the Department of Justice lodged a proposed Consent Decree with the United States District Court for the Eastern District of Virginia in the lawsuit entitled United States v. Chesapeake Products, Inc., and Frit, Inc., Civil Action No. 2:15CV434.

Pursuant to the Consent Decree, the United States will recover $200,000, to be paid by Defendants in two installments within a period of one year, in costs incurred in connection with an environmental removal action conducted at the Chesapeake Products Superfund Site, in Chesapeake, Virginia. Defendant Chesapeake Products, Inc. is the current owner of the Site, as well as the owner and operator at the time that hazardous substances were disposed of therein. Defendant Frit, Inc., is the parent company to Chesapeake Products, Inc.

The publication of this notice opens a period for public comment on the Consent Decree. Comments should be addressed to the Assistant Attorney General, Environment and Natural Resources Division, and should refer to United States v. Chesapeake Products, Inc., and Frit, Inc., D.J. Ref. No. 90-11-3-10701. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.25 (25 cents per page reproduction cost) payable to the United States Treasury.

Robert Brook,
Assistant Section Chief, Environmental Enforcement Section, Environment and Natural Resources Division.

[FR Doc. 2015-25691 Filed 10-8-15; 8:45 am]

BILLING CODE 4410-15-P